DEPARTMENT OF THE INTERIOR

Fish and Wildlife Service

Rhode Island National Wildlife Refuge Complex; Notice of Availability

SUMMARY: Pursuant to the National Wildlife Refuge System Improvement Act of 1997, the U.S. Fish and Wildlife Service (Service) has published a Draft Comprehensive Conservation Plan and Environmental Assessment for the Rhode Island National Wildlife Refuge Complex. This plan describes how the Service intends to manage the five refuges in Rhode Island during the next 15 years. These refuges include: Block Island NWR, Ninigret NWR, John H. Chafee NWR, Sachuest Point NWR, and Trustom Pond NWR.

DATES: Formal public hearings will be held beginning at 7:00 p.m. on February 6 in Middletown, RI; February 7 in South Kingstown, RI; and, February 8 on Block Island. The hearings will provide an opportunity for all interested parties to formally present oral or written testimony on the draft document before a hearing officer and court reporter. Those wishing to do so will be able to sign up to speak when they enter the hearing room. The formal public hearings will be held at:

February 6: Middletown High School Cafeteria, 130 Valley Road, Middletown, RI 02879

February 7: South Kingstown High School Cafeteria, 215 Columbia Street, Wakefield, RI 02879

February 8: Block Island School Library, High Street, New Shoreham, RI 02807

Prior to each formal hearing, from 6:00 to 7:00 p.m., the Service will host an Open House to provide an opportunity for public comment on a separate Environmental Assessment for the proposed Rhode Island Refuge Visitor Center and Administrative Offices which is being released concurrently with the draft Comprehensive Conservation Plan.

All other comments should be sent by either traditional or electronic mail, no later than March 2, 2001, to: The Rhode Island Refuges CCP Planning Team, U.S. Fish and Wildlife Service, 300 Westgate Center Drive, Hadley, MA 01035-9589, or FW5RW_CCP@fws.gov.

ADDRESSES: Additional information or copies of an executive summary of the plan or the complete document may be obtained by contacting Gary Andres, Rhode Island National Wildlife Refuge Complex, Shoreline Plaza Route 1A, P.O. Box 307, Charlestown, Rhode Island 02813, telephone 401-364-9124.

SUPPLEMENTARY INFORMATION: The draft Comprehensive Conservation Plan and Environmental Assessment fully describes, evaluates, and compares four alternatives for managing the natural resources and public use opportunities on the Rhode Island National Wildlife Refuge Complex. One of the alternatives represents the Service's Proposed Action. The four alternatives are:

Alternative A

This is the No Action Alternative required by the Council of Environmental Quality's regulations on the implementation of the National Environmental Policy Act (NEPA). Selection of this alternative would not change our current management programs on any of the five refuges. Our land acquisition program would continue to be focused on the 735 acres remaining within the currently approved acquisition boundaries. We would continue to emphasize management for the federally threatened piping plover and restoration of early-successional coastal sandplain habitats and wetlands. Public use opportunities would not change appreciably.

Alternative B

Alternative B is the Service's Proposed Action; that is, the alternative currently recommended for approval. Selection of this alternative would expand all Refuge boundaries, increasing our current land acquisition goal by 3,200 acres. Alternative B would increase protection and management for endangered, threatened, and other species of concern, increase restoration of early-successional native habitats and wetlands, and increase biological inventories and monitoring. Opportunities would increase for all six priority public uses, which include hunting, fishing, wildlife observation and photography, environmental education and interpretation. Compatibility determinations for the proposed priority public use activities are included as an appendix to the document. These compatibility determinations establish which public uses support the achievement of refuge purposes or the National Wildlife Refuge System mission and would be allowed on refuge land.

Alternative C

This alternative would also increase protection, management, restoration, monitoring and inventories of species and habitats similar to Alternative B. However, selection of this alternative would increase our current land acquisition goal by 11,500 acres. Refuge staff would take the lead in accomplishing interagency, watershed-based planning initiatives, respective recovery team tasks, and ecosystem team priorities. This alternative would eliminate existing incompatible, non-wildlife dependent uses by 2002, three years sooner than the other alternatives. Environmental education would be emphasized over other priority public uses on each refuge.

Alternative D

This alternative would maintain current biological resource program priorities, which include protecting piping plover, and managing early-successional native habitats and wetlands. Selection of this alternative would pursue the current land acquisition goal of 735 acres, similar to Alternative A. This alternative is distinguished from the others by the amount of resources directed towards expanding all priority public use opportunities on each refuge.

Dated: January 8, 2001.
Dr. Mamie A. Parker,
Acting Regional Director, U.S. Fish and Wildlife Service, Hadley, Massachusetts.

[FR Doc. 01-1021 Filed 1-11-01; 8:45 am]

BILLING CODE 4310-55-P